DEPARTMENT OF EDUCATION

[CFDA NO: 84.349A]

Early Childhood Educator Professional Development Program; Notice Inviting Applications for New Awards for Fiscal Year (FY) 2002

Purpose of Program: The purpose of the Early Childhood Educator Professional Development Program, authorized by section 2151(e) of the Elementary and Secondary Education Act (ESEA) as added by the No Child Left Behind Act, Public Law 107-110, is to enhance the school readiness of young children, particularly disadvantaged young children, and to prevent them from encountering difficulties once they enter school. The program is designed to improve the knowledge and skills of early childhood educators who work in communities that have high concentrations of children living in poverty.

Projects funded under the Early Childhood Educator Professional Development Program will provide high-quality, sustained, and intensive professional development for these early childhood educators in how to provide developmentally appropriate school-readiness services for preschool-age children that are based on the best available research on early childhood pedagogy and on child development and learning. These grants complement the President's Early Childhood Initiative and early learning programs, such as Early Reading First, by helping States and local communities strengthen early learning for young children. The Department intends to disseminate information about the funded projects that prove to be effective professional development models to child care and early childhood education programs.

Eligible Applicants: A partnership consisting of—

(i) One or more institutions of higher education, or other public or private entities (including faith-based organizations), that provide professional development for early childhood educators who work with children from low-income families in high-need communities; and

(ii) One or more public agencies (including local educational agencies, State educational agencies, State human services agencies, and State and local agencies administering programs under the Child Care and Development Block Grant Act of 1990), Head Start agencies, or private organizations (including faith-based organization); and

(iii) If feasible, an entity with demonstrated experience in providing training to educators in early childhood education programs concerning identifying and preventing behavior problems or working with children identified as or suspected to be victims of abuse. This entity may be one of the partners described above, if appropriate.

Applications Available: May 28, 2002.

Deadline For Receipt of Applications: The Department's Application Control Center must receive the application by July 5, 2002 (by 4:30 p.m., Eastern Standard Time, if hand-delivered).

Deadline for Intergovernmental Review: September 3, 2002.

Estimated Available Funds: $15,000,000 (for FY 2002).

Estimated Range of Awards: $600,000-$1,400,000 per year.

Estimated Average Size of Awards: $1,000,000 per year (based on 15 awards).

Estimated Number of Awards: 10-25.

Note: The Department is not bound by any estimates in this notice.

Project Period: Up to 2 years.

Applicable Regulations: The following provisions of the Education Department General Administrative Regulations (EDGAR) apply to these Early Childhood Educator Professional Development program grants: 34 CFR parts 74, 75, 77, 79, 80, 81, 82, 85, 86, 97, 98, and 99.

Matching and Use of Funds Requirements:

Cost-sharing: Each partnership carrying out a project through an Early Childhood Educator Professional Development Program grant under this program must provide a cost share of (1) at least 50 percent of the total cost of the project for the entire grant period; and (2) at least 20 percent of the project cost for each year. The project may provide this cost share from any source other than funds under this program, including other Federal sources. The partnership may provide the project cost share through contributions of cash or in-kind, fairly evaluated, including plant, equipment, and services.

Indirect Costs: For purposes of indirect cost charges, the Secretary considers all Early Childhood Educator Professional Development Program grants to be “educational training grants” within the meaning of 34 CFR 75.562(a). Therefore, consistent with 34 CFR 75.562, except for costs incurred by fiscal agents that are State agencies or agencies of local governments (such as local educational agencies), a recipient's indirect cost rate is limited to the maximum of eight percent or the amount permitted by its negotiated indirect cost rate agreement, whichever is less.

Pre-award Costs: The Department's regulations authorize grant recipients to incur allowable pre-award costs up to 90 calendar days before the grant award (34 CFR 75.263 and 74.25(e)(1)). Pre-award costs, in this case, may include the necessary and reasonable costs of a needs assessment that the statute requires applicants to conduct, before submitting their applications, to determine the most critical professional development needs of the early childhood educators to be served by the project and in the broader community. Applicants incur any pre-award costs at their own risk. That is, the Secretary is under no obligation to reimburse these costs if for any reason the applicant does not receive an award or if the award is less than anticipated and inadequate to cover these costs.

Background

These Early Childhood Educator Professional Development Program grants will provide a small but significant base of high-quality, intensive, replicable, professional development programs for early childhood educators. These programs will be based upon the best available research on early childhood pedagogy and on child development and learning, including early language and literacy development. The grants are particularly important because high-quality, intensive, research-based professional development is critical for implementing effective early childhood programs that enhance the school readiness of young children.

These grants will fund projects that carry out activities to improve the knowledge and skills of early childhood educators working in early childhood programs that are located in high-need communities and serve concentrations of children from low-income families. The specific activities for which recipients may use grant funds are identified in the application package.

The Secretary will expect funded projects to use rigorous methodologies to measure progress toward attainment of project objectives and of the achievement indicators in this notice under Achievement Indicators. The statute requires applicants to report annually on their progress toward attaining these achievement indicators.

Definitions

The following terms used in the absolute priority, the competitive preference, and the selection criteria for this grant competition have specific statutory meanings that are included in the application package: “early childhood educator,” “high-need community,” “low-income family,” “poverty line,” “professional development,” and “scientifically based research.” The Secretary strongly encourages applicants to review the statutory definitions of these terms before preparing their grant applications.

Applications

Early Childhood Educator Professional Development Program grants for FY 2002 will be awarded through a competitive process. The statute requires each applicant to submit an application that contains specific information and assurances that are described in the application package. The application narrative (addressing the absolute priority, the competitive preference, the EDGAR selection criteria, and other information identified in the application package) is limited to 30 double-spaced, typed pages. In addition, the budget narrative is limited to 5 double-spaced, typed pages. Other application materials are limited to the specific materials indicated in the application package, and may not include any video or other non-print materials.

Waiver of Proposed Rulemaking

It is the Secretary's practice, in accordance with the Administrative Procedure Act (5 U.S.C. 553), to offer interested parties the opportunity to comment on proposed priorities and other program requirements that are not taken directly from statute. Ordinarily, this practice would have applied to the priorities, achievement indicators, and application requirements in this notice. Section 437(d)(1) of the General Education Provisions Act (GEPA), however, exempts from this requirement rules that apply to the first competition under a new or substantially revised program. The Secretary, in accordance with section 437(d)(1) of GEPA, has decided to forgo public comment with respect to the rules in this grant competition in order to ensure timely awards. The rules in this notice will apply only to the FY 2002 grant competition.

Achievement Indicators

The Secretary announces the following achievement indicators for these grants as required by section 2151(e)(6) of the ESEA:

Indicator 1

Increasing numbers of hours of high quality professional development will be offered. High-quality professional development must be ongoing, intensive, classroom-focused, and based on scientific research on cognitive and social development in early childhood and effective pedagogy for young children.

Indicator 2

Early childhood educators who work in early childhood programs serving low-income children will participate in greater numbers, and increasing numbers of hours, in high-quality professional development.

Indicator 3

Early childhood educators will demonstrate increased knowledge and understanding of effective strategies to support school readiness based on scientific research on cognitive and social development in early childhood and effective pedagogy for young children.

Indicator 4

Early childhood educators will more frequently apply research-based approaches in early childhood pedagogy and child development and learning domains, including using a content-rich curriculum and activities that promote language and cognitive development.

Indicator 5

Children will demonstrate improved readiness for school, especially in the areas of appropriate social and emotional behavior and early language and literacy competencies.

Priorities

Absolute Priority

Under 35 CFR 75.105(c)(3), the Secretary gives an absolute preference to any eligible applicant that proposes a project to provide professional development services that will improve the knowledge and skills of early childhood educators who are working in early childhood programs that (1) are located in high-need communities; and (2) serve concentrations of children from low-income families.

The statute requires every applicant to describe in its application the high-need community to be served by the project. Applicants should include relevant demographic and socio-economic information to support this description. To meet this priority, all early childhood programs served by the early childhood educators receiving services under this grant must be located in a “high-need community.” For the purpose of this priority, the Secretary considers an early childhood program to serve a “concentration” of children from low-income families if the number of children in the program from low-income families is over 50 percent of the number of children served by the total program.

Under 34 CFR 75.105(c)(3), the Secretary will fund under this competition only applicants that meet this absolute priority.

Note: The following terms used in this absolute priority have statutory definitions that are included in the application package: “early childhood educator,” “high-need community,” “low-income family,” and “professional development.”

Competitive Preference

Under 34 CFR 75.105(c)(2), the Secretary establishes one competitive preference as follows:

The Secretary gives a competitive preference to any applicant that proposes to provide research-based professional development to early childhood educators to improve their knowledge and skills in working effectively with preschool-age children who have been identified as having a learning disability or whose pre-literacy skills put them at high risk of later being identified as having a learning disability.

An application that meets this competitive preference would receive 10 points in the competition. These points are in addition to any points the applicant earns under the selection criteria.

Note: The following terms used in this competitive preference have statutory definitions that are included in the application package: “early childhood educator,” and “professional development.”

Selection Criteria

The Secretary will use selection criteria from EDGAR in 34 CFR 75.210 to evaluate applications under this competition. Those selection criteria are identified in the application package.

For Applications Contact

Education Publications Center (ED Pubs), P.O. Box 1398, Jessup, MD 20794-1398. Telephone (toll free): 1-877-433-7827 FAX: (301) 470-1244. If you use a telecommunications device for the deaf (TDD), you may call (toll free): 1-877-576-7734.

You may also contact ED Pubs at its Web site: http://www.ed.gov/pubs/edpubs.htm.

Or you may contact ED Pubs at its e-mail address: edpubs@inet.ed.gov.

If you request an application from ED Pubs, be sure to identify this competition as follows: CFDA number 84.349A.

The public also may obtain a copy of the application package on the Department's Web site at the following address: www.ed.gov/GrantApps/#84.349A.

For Further Information Contact: Virginia Berg, U.S. Department of Education, Compensatory Education Programs, Office of Elementary and Secondary Education, 400 Maryland Avenue SW., Washington, DC 20202-6132. Telephone: (202) 260-0926, or via Internet: Virginia.Berg@ed.gov.

If you use a telecommunications device for the deaf (TDD), you may call the Federal Information Relay Service (FIRS) at 1-800-877-8339.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/fedregister.

To use PDF, you must have Adobe Acrobat Reader, which is available free at that site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6651(e).

Dated: May 22, 2002.
Susan B. Neuman,
Assistant Secretary for Elementary and Secondary Education.

[FR Doc. 02-13403 Filed 5-28-02; 8:45 am]

BILLING CODE 4000-01-P